DEPARTMENT OF COMMERCE

National Oceanic and Atmospheric Administration

50 CFR Part 648

[Docket No. 180921861-8861-01]

RIN 0648-XG503

Revisions to Framework Adjustment 57 to the Northeast Multispecies Fishery Management Plan and Sector Annual Catch Entitlements; Updated Annual Catch Limits for Sectors and the Common Pool for Fishing Year 2018

AGENCY: National Marine Fisheries Service (NMFS), National Oceanic and Atmospheric Administration (NOAA), Commerce.

ACTION: Final rule; adjustment to specifications.

SUMMARY: Under the Magnuson-Stevens Fishery Conservation and Management Act (MSA), this final rule adjusts the 2018 fishing year allocations to sectors and the common pool specified in Framework Adjustment 57 to the Northeast Multispecies Fishery Management Plan; makes other minor adjustments based on final 2017 catch information; and distributes sector allocation carried over from fishing year 2017 into fishing year 2018 as required by the sector regulations. The revisions are necessary to account for changes to 2018 sub-annual catch limits based on final 2018 sector rosters. These adjustments are routine and formulaic and are intended to ensure that final allocations are based on the best scientific information available.

DATES: Effective February 4, 2019, through April 30, 2019.

FOR FURTHER INFORMATION CONTACT: Claire Fitz-Gerald, Fishery Management Specialist, (978) 281-9255.

SUPPLEMENTARY INFORMATION: We recently approved Framework Adjustment 57, which set annual catch limits for 20 groundfish stocks for the 2018 fishing year. This action became effective on May 1, 2018 (83 FR 18985; May 1, 2018). Framework 57 included preliminary allocations for sectors and the common pool based on final sector enrollment for the 2017 fishing year. A sector receives an allocation of each stock, or annual catch entitlement (referred to as ACE, or allocation), based on its members' catch histories. State-operated permit banks also receive an allocation that can be transferred to qualifying sector vessels. The sum of all sector and state-operated permit bank allocations is referred to as the sector sub-annual catch limit (sub-ACL). The groundfish allocations remaining after sectors and state-operated permit banks receive their allocations are then allocated to the common pool (i.e., vessels not enrolled in a sector), which is referred to as the common pool sub-ACL.

The MSA at section 305(d) gives us the responsibility and authority to carry out fishery management plans. Using this authority, this rule adjusts the 2018 fishing year sector and common pool sub-ACLs and sector ACEs based on final sector membership as of May 1, 2018. Permits enrolled in a sector and the vessels associated with those permits have until April 30, the last day prior to the beginning of a new fishing year, to withdraw from a sector and fish in the common pool. As a result, the actual sector enrollment for the new fishing year is unknown when the final specifications are published. Each year, we subsequently publish an adjustment rule modifying sector and common pool allocations based on final sector enrollment. The Framework 57 proposed and final rules both explained that sector enrollments may change and that there would be a need to adjust the sub-ACLs and sector ACEs accordingly. Table 1 shows the changes to the sub-ACLs between Framework 57 and this adjustment rule.

In contrast to Framework 57, this year's sector rule provided sector ACE for 17 sectors based on preliminary fishing year 2018 potential sector contributions and the preliminary fishing year 2018 sector rosters that were submitted on March 26, 2018 (83 FR 18965; May 1, 2018). An interim final sector rule allocated ACE to the 2 remaining sectors on July 20, 2018 (83 FR 34492; July 20, 2018). There were no changes to sector enrollment following submission of the preliminary rosters. Therefore, the sector-specific allocations described in the sector rules are correct and do not require adjustment.

Table 1—Sub-ACL Comparison Between Framework 57 Final Rule and Adjustment Rule (mt)
Stock | Final Framework 57 sector sub-ACL | Final adjusted sector sub-ACL | Final Framework 57 common pool sub-ACL | Final adjusted common pool sub-ACL
GB Cod | 1,335 | 1,170 | 25 | 24
GOM Cod | 377 | 357 | 13 | 12
GB Haddock | 44,348 | 44,340 | 311 | 319
GOM Haddock | 8,643 | 8,641 | 95 | 98
GB Yellowtail Flounder | 167 | 167 | 3 | 3
SNE/MA Yellowtail Flounder | 34 | 34 | 8 | 8
CC/GOM Yellowtail Flounder | 381 | 381 | 18 | 17
American Plaice | 1,550 | 1,552 | 29 | 28
Witch Flounder | 830 | 811 | 19 | 18
GB Winter Flounder | 725 | 725 | 6 | 6
GOM Winter Flounder | 339 | 339 | 18 | 18
SNE/MA Winter Flounder | 456 | 456 | 62 | 62
Redfish | 10,696 | 10,705 | 59 | 50
White Hake | 2,713 | 2,715 | 22 | 21
Pollock | 37,163 | 37,170 | 237 | 230
N. Windowpane Flounder | na | na | 63 | 63
S. Windowpane Flounder | na | na | 53 | 53
Ocean Pout | na | na | 94 | 94
Atlantic Halibut | na | na | 77 | 77
Atlantic Wolffish | na | na | 82 | 82

Sector regulations at 50 CFR 648.87(c) require us to adjust ACE carryover to ensure that the total unused ACE combined with the overall sub-ACL does not exceed the acceptable biological catch (ABC) for the fishing year in which the carryover may be harvested. We have completed 2017 fishing year data reconciliation with sectors and determined final 2017 fishing year sector catch and the amount of allocation that sectors may carry over from the 2017 to the 2018 fishing year. A sector may carry over up to 10 percent of unused ACE for each stock, except in instances where the amount of unused ACE was reduced so as not to exceed the ABC. Accordingly, fishing year 2017 carryover to 2018 was reduced for the following stocks: Georges Bank haddock; Gulf of Maine haddock; Southern New England/Mid-Atlantic yellowtail flounder; Cape Cod/Gulf of Maine yellowtail flounder; American plaice; witch flounder; Georges Bank winter flounder; Gulf of Maine winter flounder; Southern New England/Mid-Atlantic winter flounder; redfish; white hake; and pollock. Complete details on carryover reduction percentages can be found at: https://www.greateratlantic.fisheries.noaa.gov/ro/fso/reports/Groundfish_Catch_Accounting.htm. Table 2 includes the maximum amount of allocation that sectors may carry over from the 2017 to the 2018 fishing year.

Table 3 includes the de minimis amount of carryover for each sector for the 2018 fishing year. If the overall ACL for any allocated stock is exceeded for the 2018 fishing year, the allowed carryover harvested by a sector, minus the pounds in the sector's de minimis amount, will be counted against its allocation to determine whether an overage subject to an accountability measure occurred. Tables 4 and 5 list the final ACE available to sectors for the 2018 fishing year, including finalized carryover amounts for each sector, as adjusted down when necessary to equal each stock's ABC.

BILLING CODE 3510-22-P

BILLING CODE 3510-22-C

This rule also adjusts the common pool allocation based on fishing year 2018 final rosters. The common pool sub-ACL for each stock (except for SNE/MA winter flounder, windowpane flounder, ocean pout, Atlantic wolffish, and Atlantic halibut) is divided into trimester total allowable catches (TAC). In addition, Framework 57 specified incidental catch limits (or incidental total allowable catches, “Incidental TACs”) applicable to the common pool and groundfish Special Management Programs for the 2018 fishing year, including the B day-at-sea (DAS) Program. Because the Trimester and incidental TACs are based on the common-pool allocation, they also must be revised to match the final common pool allocation. Final common pool trimester quotas and incidental catch limits are included in Tables 6-10 below.

Table 6—Final Fishing Year 2018 Common Pool Trimester TACs
Stock | Percentage of sub-ACL: Trimester 1 | Percentage of sub-ACL: Trimester 2 | Percentage of sub-ACL: Trimester 3 | 2018 Trimester TAC (mt): Trimester 1 | 2018 Trimester TAC (mt): Trimester 2 | 2018 Trimester TAC (mt): Trimester 3
GB Cod | 28 | 34 | 38 | 6.8 | 8.2 | 9.2
GOM Cod | 49 | 33 | 18 | 5.8 | 3.9 | 2.1
GB Haddock | 27 | 33 | 40 | 86.1 | 105.2 | 127.5
GOM Haddock | 27 | 26 | 47 | 26.3 | 25.4 | 45.9
GB Yellowtail Flounder | 19 | 30 | 52 | 0.5 | 0.8 | 1.3
SNE/MA Yellowtail Flounder | 21 | 28 | 51 | 1.7 | 2.3 | 4.2
CC/GOM Yellowtail Flounder | 57 | 26 | 17 | 9.7 | 4.4 | 2.9
American Plaice | 74 | 8 | 18 | 20.6 | 2.2 | 5.0
Witch Flounder | 55 | 20 | 25 | 10.1 | 3.7 | 4.6
GB Winter Flounder | 8 | 24 | 69 | 0.5 | 1.4 | 4.1
GOM Winter Flounder | 37 | 38 | 25 | 6.5 | 6.7 | 4.4
Redfish | 25 | 31 | 44 | 12.5 | 15.5 | 22.1
White Hake | 38 | 31 | 31 | 7.8 | 6.4 | 6.4
Pollock | 28 | 35 | 37 | 64.4 | 80.5 | 85.1

Table 7—Fishing Year 2018 Common Pool Incidental Catch TACs
Stock | Percentage of common pool sub-ACL | 2018 (mt)
GB cod | 2 | 0.55
GOM cod | 1 | 0.12
GB yellowtail flounder | 2 | 0.05
CC/GOM yellowtail flounder | 1 | 0.17
American Plaice | 5 | 1.39
Witch Flounder | 5 | 0.92
SNE/MA winter flounder | 1 | 0.62

Table 8—Distribution of Common Pool Incidental Catch TACs to Each Special Management Program
Stock | Regular B DAS program (%) | Closed area I hook gear haddock SAP (%) | Eastern U.S./CA haddock SAP (%) | Southern closed area II haddock SAP
GB cod | 50 | 16 | 34 | NA
GOM cod | 100 | NA | NA | NA
GB yellowtail flounder | 50 | NA | 50 | NA
CC/GOM yellowtail flounder | 100 | NA | NA | NA
American Plaice | 100 | NA | NA | NA
Witch Flounder | 100 | NA | NA | NA
SNE/MA winter flounder | 100 | NA | NA | NA

Table 9—Fishing Year 2018 Common Pool Incidental Catch TACs for Each Special Management Program (mt)
Stock | Regular B DAS program | Closed area I hook gear haddock SAP | Eastern U.S./Canada haddock SAP
GB cod | 0.28 | 0.09 | 0.19
GOM cod | 0.12 | n/a | n/a
GB yellowtail flounder | 0.03 | n/a | 0.03
CC/GOM yellowtail flounder | 0.17 | n/a | n/a
American Plaice | 1.39 | n/a | n/a
Witch Flounder | 0.92 | n/a | n/a
SNE/MA winter flounder | 0.62 | n/a | n/a

Table 10—Fishing year 2018 Common Pool Regular B DAS Program Quarterly Incidental Catch TACs (mt)
Stock | 1st quarter (13%) | 2nd quarter (29%) | 3rd quarter (29%) | 4th quarter (29%)
GB cod | 0.04 | 0.08 | 0.08 | 0.08
GOM cod | 0.02 | 0.03 | 0.03 | 0.03
GB yellowtail flounder | 0.003 | 0.007 | 0.007 | 0.007
CC/GOM yellowtail flounder | 0.02 | 0.05 | 0.05 | 0.05
American Plaice | 0.18 | 0.40 | 0.40 | 0.40
Witch Flounder | 0.12 | 0.27 | 0.27 | 0.27
SNE/MA winter flounder | 0.08 | 0.18 | 0.18 | 0.18

This action adjusts the New Hampshire Permit Bank's (NHPB) fishing year 2018 initial allocation. The NHPB ended fishing year 2017 with a 3-pound (1.36-kg) Georges Bank West cod overage and a 1-pound (0.45-kg) Georges Bank West haddock overage. Table 11 shows the adjustments to the NHPB's initial allocation for fishing year 2018 to account for these overages.

Table 11—Adjustments to New Hampshire Permit Bank's Initial Allocations for Fishing Year 2018 (lb)
Stock | Fishing year 2017 year- end balance | Fishing year 2018 initial allocation | Fishing year 2018 adjusted allocation
GB Cod West | −3 | 16 | 13
GB Haddock West | −1 | 21 | 20

Last, this rule confirms the Northeast Fishery Sector IX's (NEFS 9) initial allocation of witch flounder for the 2018 fishing year. On July 20, 2018, NOAA Fisheries published an interim final rule that approved sector operations plans and allocated ACE to NEFS 7 and 9 for the 2018 fishing year (83 FR 34492; July 20, 2018). The interim final rule described the requirement for NEFS 9 to payback 72,224-lb (32.7-mt) of witch flounder to account for the quota overage incurred in fishing year 2017. The data used to determine the payback amount announced in the interim final rule were preliminary. After finalizing the year-end catch data for sectors, we determined that NEFS 9 ended the 2017 fishing year with a 71,716 lb (32.5 mt) overage of witch flounder. NEFS 9 transferred in 71,716 lb (32.5 mt) of witch flounder quota to reconcile the overage during the fishing year 2017 post-year ACE trading window. NEFS 9 does not have any witch flounder to carry over into fishing year 2018 and the permits enrolled in NEFS 9 for fishing year 2018 have zero ACE for witch flounder. Therefore, the sector's initial allocation of witch flounder for fishing year 2018 remains at zero pounds.

Classification

The NMFS Assistant Administrator has determined that this final rule is consistent with the Northeast Multispecies Fishery Management Plan, other provisions of the Magnuson-Stevens Fishery Conservation and Management Act, and other applicable law.

This action is exempt from the procedures of Executive Order 12866 because this action contains no implementing regulations.

Pursuant to 5 U.S.C. 553(b)(3)(B), we find good cause to waive prior public notice and opportunity for public comment on the catch limit and allocation adjustments because allowing time for notice and comment is impracticable, unnecessary, and contrary to the public interest. We also find good cause to waive the 30-day delay in effectiveness pursuant to 5 U.S.C. 553(d)(3), so that this final rule may become effective upon filing.

There are several reasons that notice and comment and a 30-day delay in effectiveness are impracticable, unnecessary, and contrary to the public interest. First, the proposed and final rules for Framework 57 explained the need and likelihood for adjustments of sector and common pool allocations based on final sector rosters. No comments were received on the potential for these adjustments, which provide an accurate accounting of a sector's or common pool's allocation. Second, this is an annual adjustment action that is expected by industry. These adjustments are routine and formulaic, required by regulation, or necessary to match allocations to sector enrollment. Finally, immediate implementation corrects the information published in Framework 57 and provides sector and common pool vessels with catch limit information that reflects their actual final allocations. Delaying these adjustments, which provide an accurate accounting of the sector and common pool allocations, could cause confusion to both sectors and the common pool.

Also, because advanced notice and the opportunity for public comment are not required for this action under the Administrative Procedure Act, or any other law, the analytical requirements of the Regulatory Flexibility Act, 5 U.SC. 601, et seq., do not apply to this rule. Therefore, no final regulatory flexibility analysis is required and none has been prepared.

Authority: 16 U.S.C. 1801 et seq.

Samuel D. Rauch III,
Deputy Assistant Administrator for Regulatory Programs, National Marine Fisheries Service.

[FR Doc. 2019-00979 Filed 2-4-19; 8:45 am]

BILLING CODE 3510-22-P